DEPARTMENT OF THE INTERIOR

National Park Service

Delaware Water Gap National Recreation Area Citizen Advisory Commission Meeting

AGENCY: National Park Service, Interior.

ACTION: Notice of meeting.

SUMMARY: This notice announces three public meetings of the Delaware Water Gap National Recreation Area Citizen Advisory Commission. Notice of these meetings is required under the Federal Advisory Committee Act (Public Law 92-463).

Meeting Date and Time: Thursday, March 8, 2001 at 7 p.m.

Snow Date: Thursday, March 15, 2001 at 7 p.m.

Address: Bushkill Visitor Center, U.S. Route 209, Bushkill, PA 18324.

Annual Meeting of Citizen Advisory Commission

Meeting Date and Time: Thursday, March 8, 2001 immediately following the 7 p.m. meeting.

Snow Date: Thursday, March 15, 2001.

Address: Bushkill Visitor Center, U.S. Route 209, Bushkill, PA 18324.

Meeting Date and Time: Saturday, June 9, 2001, at 9 a.m.

Address: New Jersey District Office, Walpack, NJ.

The agenda will include reports from Citizen Advisory Commission committees. Superintendent Bill Laitner will give a report on various park issues. The meeting will be open to the public and there will be an opportunity for public comment on these issues. The annual meeting will consist of election of officers for the 2001-2002 term.

Congressional Listing for Delaware Water Gap NRA

Honorable Jon Corzine

United States Senate, Washington, DC 20510

Honorable Robert G. Torricelli

U.S. Senate, Washington, DC 20510-3001

Honorable Richard Santorum

U.S. Senate, SR 120 Senate Russell Office Bldg., Washington, DC 20510

Honorable Arlen Specter

U.S. Senate, SH-530 Hart Senate Office Bldg., Washington, DC 20510-3802

Honorable Pat Toomey

U.S. House of Representatives, Cannon House Office Bldg., Washington, DC 20515

Honorable Don Sherwood

U.S. House of Representatives, 2370 Rayburn House Office Bldg., Washington, DC 20515-3810

Honorable Margaret Roukema

U.S. House of Representatives, 2244 Rayburn House Office Bldg., Washington, DC 20515-3005

Honorable Tom Ridge

State Capitol, Harrisburg, PA 17120

Honorable Christine Whitman

State House, Trenton, NJ 08625

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

FOR FURTHER INFORMATION CONTACT: Superintendent, Delaware Water Gap National Recreation Area, Bushkill, PA 18324 (telephone 570-588-2418).

Dated: January 18, 2001.
William G. Laitner,
Superintendent.

[FR Doc. 01-4076 Filed 2-16-01; 8:45 am]

BILLING CODE 4310-70-P